DEPARTMENT OF ENERGY

Federal Energy Regulatory Commission

Combined Notice of Filings #1

Take notice that the Commission received the following electric corporate filings:

Docket Numbers: EC18-164-000.

Applicants: Wabash Valley Power Association, Inc.

Description: Application for Authorization Under Section 203 of the Federal Power Act, et al. of Wabash Valley Power Association, Inc.

Filed Date: 9/27/18.

Accession Number: 20180927-5037.

Comments Due: 5 p.m. ET 10/18/18.

Take notice that the Commission received the following exempt wholesale generator filings:

Docket Numbers: EG18-129-000.

Applicants: Blue Summit II Wind, LLC.

Description: Notice of Self-Certification of Exempt Wholesale Generator Status of Blue Summit II Wind, LLC.

Filed Date: 9/27/18.

Accession Number: 20180927-5042.

Comments Due: 5 p.m. ET 10/18/18.

Take notice that the Commission received the following electric rate filings:

Docket Numbers: ER18-1899-001.

Applicants: Midcontinent Independent System Operator, Inc.

Description: Tariff Amendment: 2018-09-26_Deficiency Response re Pro Forma Pseudo-Tie Agreement to be effective 8/29/2018.

Filed Date: 9/26/18.

Accession Number: 20180926-5148.

Comments Due: 5 p.m. ET 10/17/18.

Docket Numbers: ER18-2483-000.

Applicants: Midcontinent Independent System Operator, Inc.

Description: § 205(d) Rate Filing: 2018-09-26_SA 3166 Ameren Illinois-Cardinal Point GIA (J456) to be effective 9/12/2018.

Filed Date: 9/26/18.

Accession Number: 20180926-5140.

Comments Due: 5 p.m. ET 10/17/18.

Docket Numbers: ER18-2484-000.

Applicants: Midcontinent Independent System Operator, Inc.

Description: § 205(d) Rate Filing: 2018-09-26_SA 2928 ITCTransmission-Pegaus Wind 2nd Amended GIA (J301 J701) to be effective 9/11/2018.

Filed Date: 9/26/18.

Accession Number: 20180926-5155.

Comments Due: 5 p.m. ET 10/17/18.

Docket Numbers: ER18-2485-000.

Applicants: Mid-Atlantic Interstate Transmission, LLC, PJM Interconnection, L.L.C.

Description: § 205(d) Rate Filing: MAIT submits four ECSAs, Service Agreement Nos. 5024, 5025, 5027, and 5031 to be effective 11/26/2018.

Filed Date: 9/26/18.

Accession Number: 20180926-5157.

Comments Due: 5 p.m. ET 10/17/18.

Docket Numbers: ER18-2486-000.

Applicants: San Diego Gas & Electric Company.

Description: § 205(d) Rate Filing: SDGE IV SOLAR AGMT 57 V 11 LGIA AMENDMENT to be effective 9/27/2018.

Filed Date: 9/26/18.

Accession Number: 20180926-5159.

Comments Due: 5 p.m. ET 10/17/18.

Docket Numbers: ER18-2487-000.

Applicants: Rail Splitter Wind Farm, LLC.

Description: Baseline eTariff Filing: Reactive Power Compensation Filing to be effective 11/26/2018.

Filed Date: 9/27/18.

Accession Number: 20180927-5035.

Comments Due: 5 p.m. ET 10/18/18.

Docket Numbers: ER18-2488-000.

Applicants: Alabama Power Company.

Description: § 205(d) Rate Filing: Urban Grid Solar Projects (Chase Solar) LGIA Filing to be effective 9/13/2018.

Filed Date: 9/27/18.

Accession Number: 20180927-5055.

Comments Due: 5 p.m. ET 10/18/18.

Docket Numbers: ER18-2489-000.

Applicants: ISO New England Inc.

Description: § 205(d) Rate Filing: Ministerial Filing to Conform Sections III.2, III.12, III.13.7 and III.13.8 to be effective 6/1/2018.

Filed Date: 9/27/18.

Accession Number: 20180927-5056.

Comments Due: 5 p.m. ET 10/18/18.

Docket Numbers: ER18-2490-000.

Applicants: Arizona Public Service Company.

Description: Tariff Cancellation: Cancellation of Service Agreement No. 366 to be effective 11/27/2018.

Filed Date: 9/27/18.

Accession Number: 20180927-5061.

Comments Due: 5 p.m. ET 10/18/18.

Docket Numbers: ER18-2491-000.

Applicants: Arizona Public Service Company.

Description: § 205(d) Rate Filing: Service Agreement No. 368—LCWCD to be effective 9/1/2018.

Filed Date: 9/27/18.

Accession Number: 20180927-5063.

Comments Due: 5 p.m. ET 10/18/18.

Docket Numbers: ER18-2492-000.

Applicants: FTS Master Tenant 2, LLC.

Description: Baseline eTariff Filing: FTS Master Tenant 2 MBR Tariff to be effective 10/1/2018.

Filed Date: 9/27/18.

Accession Number: 20180927-5074.

Comments Due: 5 p.m. ET 10/18/18.

Docket Numbers: ER18-2493-000.

Applicants: Midcontinent Independent System Operator, Inc.

Description: § 205(d) Rate Filing: 2018-09-27_SA 3084 St. Joseph Phase II-NIPSCO GIA 1st Rev (J351) to be effective 6/27/2018.

Filed Date: 9/27/18.

Accession Number: 20180927-5079.

Comments Due: 5 p.m. ET 10/18/18.

Docket Numbers: ER18-2494-000.

Applicants: Southwest Power Pool, Inc.

Description: § 205(d) Rate Filing: 2881R6 City of Chanute, KS NITSA NOA to be effective 9/1/2018.

Filed Date: 9/27/18.

Accession Number: 20180927-5082.

Comments Due: 5 p.m. ET 10/18/18.

Docket Numbers: ER18-2495-000.

Applicants: PacifiCorp.

Description: § 205(d) Rate Filing: Orion Wind E&P Agmt to be effective 9/19/2018.

Filed Date: 9/27/18.

Accession Number: 20180927-5090.

Comments Due: 5 p.m. ET 10/18/18.

Take notice that the Commission received the following electric reliability filings:

Docket Numbers: RR18-11-000.

Applicants: North American Electric Reliability Corporation, ReliabilityFirst Corporation, Midwest Reliability Organization.

Description: Joint Petition of the North American Electric Reliability Corporation, et al. for Approval of Registration Transfer Request of Wisconsin Public Service Corporation and Upper Michigan Energy Resources.

Filed Date: 9/26/18.

Accession Number: 20180926-5184.

Comments Due: 5 p.m. ET 10/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2018.
Nathaniel J. Davis, Sr.,
Deputy Secretary.

[FR Doc. 2018-21495 Filed 10-2-18; 8:45 am]

BILLING CODE 6717-01-P